ENVIRONMENTAL PROTECTION AGENCY

[EPA-HQ-OAR-2007-1196; FRL-9923-36-OAR]

Recent Postings of Broadly Applicable Alternative Test Methods

AGENCY: Environmental Protection Agency (EPA).

ACTION: Notice of availability.

SUMMARY: This notice announces the broadly applicable alternative test method approval decisions the Environmental Protection Agency (EPA) has made under and in support of New Source Performance Standards (NSPS), the National Emission Standards for Hazardous Air Pollutants (NESHAP), and the Consolidated Federal Air Rule under the Clean Air Act (CAA) in 2014.

FOR FURTHER INFORMATION CONTACT: An electronic copy of each alternative test method approval document is available on the EPA's Web site at www.epa.gov/ttn/emc/approalt.html. For questions about this notice, contact Ms. Lula H. Melton, Air Quality Assessment Division, Office of Air Quality Planning and Standards (E143-02), Environmental Protection Agency, Research Triangle Park, NC 27711; telephone number: (919) 541-2910; fax number: (919) 541-0516; email address: melton.lula@epa.gov. For technical questions about individual alternative test method decisions, refer to the contact person identified in the individual approval documents.

SUPPLEMENTARY INFORMATION:

I. General Information

A. Does this notice apply to me?

This notice will be of interest to entities regulated under 40 Code of Federal Regulations (CFR) parts 60 and 63, state, local, and tribal agencies, and the EPA Regional Offices responsible for implementation and enforcement of regulations under 40 CFR parts 60 and 63.

B. How can I get copies of this information?

You may access copies of the broadly applicable alternative test method approval documents from the EPA's Web site at www.epa.gov/ttn/emc/approalt.html.

II. Background

Broadly applicable alternative test method approval decisions made by the EPA in 2014 under the NSPS, 40 CFR part 60 and the NESHAP, 40 CFR part 63 are identified in this notice (see Table 1). Source owners and operators may voluntarily use these broadly applicable alternative test methods subject to their specific applicability. Use of these broadly applicable alternative test methods does not change the applicable emission standards.

As explained in a previous Federal Register notice published at 72 FR 4257 (January 30, 2007) and found on the EPA's Web site at www.epa.gov/ttn/emc/approalt.html, the EPA Administrator has the authority to approve the use of alternative test methods to comply with requirements under 40 CFR parts 60, 61, and 63. This authority is found in sections 60.8(b)(3), 61.13(h)(1)(ii), and 63.7(e)(2)(ii). A similar authority is granted in 40 CFR part 65 under section 65.158(a)(2). In the past, we have performed thorough technical reviews of numerous requests for alternatives and modifications to test methods and procedures. Based on these reviews, we have often found that these changes or alternatives would be equally valid and appropriate to apply to other sources within a particular class, category, or subcategory. Consequently, we have concluded that, where a method modification or an alternative method is clearly broadly applicable to a class, category, or subcategory of sources, it is both more equitable and efficient to approve its use for all appropriate sources and situations at the same time.

It is important to clarify that alternative methods are not mandatory but permissive. Sources are not required to employ such a method but may choose to do so in appropriate cases. Source owners or operators should review the specific broadly applicable alternative method approval decision on the EPA's Web site at www.epa.gov/ttn/emc/approalt.html before electing to employ it. As per section 63.7(f)(5), by electing to use an alternative method for 40 CFR part 63 standards, the source owner or operator must continue to use the alternative method until approved otherwise.

The criteria for approval and procedures for submission and review of broadly applicable alternative test methods are outlined at 72 FR 4257 (January 30, 2007). We will continue to announce approvals for broadly applicable alternative test methods on the EPA's Web site at www.epa.gov/ttn/emc/approalt.html and publish a notice annually that summarizes approvals for broadly applicable alternative test methods.

This notice comprises a summary of four such approval documents posted to our Technology Transfer Network from January 1, 2014, through December 31, 2014. The alternative method decision letter/memo number, the reference method affected, sources allowed to use this alternative, and the modification or alternative method allowed are summarized in Table 1 of this notice. Please refer to the complete copies of these approval documents available from the EPA's Web site at www.epa.gov/ttn/emc/approalt.html as Table 1 serves only as a brief summary of the broadly applicable alternative test methods.

This notice also acknowledges two broadly applicable test method approvals that we retracted in 2014. Broadly applicable alternative test method approvals referred to as ALT-061 and ALT-087 issued on September 22, 2009, and July 27, 2011, respectively, were withdrawn. In the Federal Register notices dated February 22, 2010, and February 15, 2012, we announced the approvals of the use of single-point sampling at the centroid of the exhaust when sampling gaseous emissions and diluent gases from federally regulated engines. However, based on comments that we received (on the proposed rule titled, “Revisions to Test Methods and Testing Regulations,” published in the Federal Register on January 9, 2012) from the Alaska Department of Environmental Conservation in a letter dated March 9, 2012, we no longer believe that this alternative is appropriate for broad applicability. Therefore, we have withdrawn broadly applicable alternative approvals, ALT-061 and ALT-087. Please refer to the withdrawal memo on EPA's Web site at http://www.epa.gov/ttn/emc/approalt.html for details regarding our decision to withdraw ALT-061 and ALT-087.

If you are aware of reasons why a particular alternative test method approval that we issued should not be broadly applicable, we request that you make us aware of the reasons in writing, and we will revisit the broad approval. Any objection to a broadly applicable alternative test method, as well as the resolution of that objection, will be announced on the EPA's Web site at www.epa.gov/ttn/emc/approalt.html and in the subsequent Federal Register notice. If we decide to retract a broadly applicable test method, we would continue to grant case-by-case approvals, as appropriate, and would (as states, local and tribal agencies and the EPA Regional Offices should) consider the need for an appropriate transition period for users either to request case-by-case approval or to transition to an approved method.

Dated: February 8, 2015.
Stephen D. Page,
Director, Office of Air Quality Planning and Standards.

Table 1—Approved Alternative Test Methods and Modifications to Test Methods Referenced in or Published Under Appendices in 40 CFR Parts 60 and 63 Posted Between January 2014 and December 2014
Alternative method decision letter/memo number | As an alternative or modification to . . . | For . . . | You may . . .
ALT-105 | Method 25A—Determination of Total Gaseous Organic Concentration Using a Flame Ionization Analyzer or Method 25B—Determination of Total Gaseous Organic Concentration Using a Nondispersive Infrared Analyzer | Sources subject to 40 CFR part 63, subpart BBBBBB; 40 CFR part 63, subpart R, and 40 CFR part 60, subpart XX | Produce and use vendor certified calibration gases that meet the following requirements: prepared in accordance with ISO 6142; analyzed in accordance with ISO 6143; filled at ISO 17025 accredited laboratories; and have a total expanded uncertainty of less than 1% (relative) with caveats stipulated in the agency's approval letter dated May 12, 2014.
ALT-106 | Method 18—Measurement of Gaseous Organic Compound Emissions by Gas Chromatography or Method 25A—Determination of Total Gaseous Organic Concentration Using a Flame Ionization Analyzer | Spark ignition internal combustion engines subject to 40 CFR part 60, subpart JJJJ | Use an alternative testing approach using GC to separate and measure methane and ethane, followed by GC back-flush procedures to measure NMEOC in post-combustion emissions with caveats stipulated in the agency's approval letter dated June 6, 2014.
ALT-107 | Test methods to demonstrate initial and annual compliance with CO testing requirements prescribed in paragraph 63.6630(e) of 40 CFR part 63, subpart ZZZZ | Stationary reciprocating internal combustion engines subject to 40 CFR part 63, subpart ZZZZ—National Emissions Standards for Hazardous Air Pollutants for Stationary Reciprocating Internal Combustion Engines | Use a certified and quality assured CO and O2 CEMS that meet the criteria specified in the agency's approval letter dated November 20, 2013.
ALT-108 | The minimum sample volume requirement of 30 dscf when using Method 29—Determination of Metals Emissions from Stationary Sources | Sources subject to 40 CFR part 63, subpart EEEEEEE, National Emission Standards for Hazardous Air Pollutants: Gold Mine Ore Processing and Production Area Source Category | Use a 2-hour minimum sampling time in lieu of a 30 dscf minimum sample volume when Method 29 is applied.
Source owners or operators should review the specific broadly applicable alternative method approval letter on the EPA's Web site at www.epa.gov/ttn/emc/approalt.html before electing to employ it.

[FR Doc. 2015-03581 Filed 2-20-15; 8:45 am]

BILLING CODE 6560-50-P